DEPARTMENT OF THE INTERIOR

National Park Service

[2310-0003-422]

Coral Reef Restoration Plan, Final Programmatic Environmental Impact Statement, Biscayne National Park, FL

AGENCY: National Park Service, Interior.

ACTION: Notice of Availability of the Final Programmatic Environmental Impact Statement for the Coral Reef Restoration Plan, Biscayne National Park.

SUMMARY: Pursuant to the National Environmental Policy Act (NEPA) of 1969, 42 U.S.C. 4332(2)(C), the National Park Service (NPS) announces the availability of a Final Programmatic Environmental Impact Statement for the Coral Reef Restoration Plan (Plan/FEIS) for Biscayne National Park, Florida. The Plan/FEIS provides a systematic approach to addressing injuries to coral reefs caused by vessel groundings within Biscayne National Park.

DATES: The NPS will execute a Record of Decision no sooner than 30 days from the date of publication of the Notice of Availability of the FEIS in the Federal Register by the Environmental Protection Agency.

ADDRESSES: The Plan/FEIS is available in electronic format online at http://parkplanning.nps.gov/bisc. A limited number of compact discs and hard copies of the Plan/FEIS are available at Biscayne National Park Headquarters, 9700 SW. 328th Street, Homestead, Florida 33033. You may also request a CD or hard copy by contacting Mark Lewis, Superintendent of Biscayne National Park, 9700 SW. 328th Street, Homestead, Florida 33033, 305-230-1144.

SUPPLEMENTARY INFORMATION: Many vessel groundings occur annually in Biscayne National Park, causing injuries to submerged resources. The goal of coral reef restoration actions in Biscayne National Park is to create a stable, self-sustaining reef environment of similar topography and surface complexity to that which existed prior to injury, such that natural recovery processes, enhanced through mitigation, if needed, will lead to a fully functioning coral reef community with near natural complexity, structure, and make-up of organisms. The Plan/FEIS provides a systematic approach to addressing injuries to coral reefs caused by vessel groundings within Biscayne National Park. It analyzes two alternatives, the No Action alternative (Alternative 1) and Restoration Using a Programmatic Approach (Alternative 2).

Alternative 1 would not change the existing approach to coral reef restoration planning and implementation, including NEPA compliance. Currently, Biscayne National Park resource managers evaluate the impacts of coral reef restoration actions and specific restoration methods when planning and implementing restoration at each grounding incident. In contrast, to address each coral injury under Alternative 2, the most appropriate restoration actions and specific restoration methods would be selected from a “toolbox” of methods that already have had their impacts evaluated programmatically. Under Alternative 2, 10 reasonable and common coral reef restoration actions were identified and evaluated for inclusion in the toolbox.

Alternative 2 (Restoration Using a Programmatic Approach) was identified as the NPS's preferred alternative. The time required to evaluate environmental impacts of restoration actions after site-specific injuries would be minimized substantially under Alternative 2, resulting in fewer adverse effects and/or more beneficial effects to park resources.

FOR FURTHER INFORMATION CONTACT: Mark Lewis, Superintendent, Biscayne National Park, 9700 SW. 328th Street, Homestead, FL 33033; Telephone 305-230-1144.

Authority: The authority for publishing this notice is contained in 40 CFR 1506.6

The responsible official for this Final EIS is the Regional Director, Southeast Region, National Park Service, 100 Alabama Street SW., 1924 Building, Atlanta, Georgia 30303.

Dated: April 22, 2011.
Gordon Wissinger,
Acting Regional Director, Southeast Region.

[FR Doc. 2011-10455 Filed 4-28-11; 8:45 am]

BILLING CODE 4310-ML-P